FEDERAL MARITIME COMMISSION

Ocean Transportation Intermediary License Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 16790F.

Name: Atlantic Pacific Container Line L.L.C. d/b/a APC Line L.L.C.

Address: 333 Hamilton Blvd., Bldg. #10, South Plainfield, NJ 07080.

Date Revoked: September 8, 2000.

Reason: Failed to maintain a valid bond.

License Number: 7452N.

Name: Pacific-Trans, Inc.

Address: 1790 N.W. 82nd Avenue, Miami, FL 33126.

Date Revoked: November 2, 2000.

Reason: Failed to maintain a valid bond.

License Number: 3276NF.

Name: Rhein Express International Ltd.

Address: 1880 S. Elmhurst Road, Mt. Prospect, IL 60056.

Date Revoked: October 21, 2000 (NVOCC); October 25, 2000 (Freight Forwarder).

Reason: Failed to maintain valid bonds.

License Number: 12553N.

Name: Saga (U.S.A.), Inc.

Address: 16115 Rockaway Blvd., Suite 305, Jamaica, NY 11422.

Date Revoked: November 4, 2000.

Reason: Failed to maintain a valid bond.

License Number: 3384.

Name: TCI Worldwide, Inc.

Address: 312 South Avenue, Staten Island, NY 10303.

Date Revoked: September 12, 2000.

Reason: Surrendered license voluntarily.

License Number: 1910.

Name: Vene-Embarques, Inc.

Address: P.O. Box 521127, Miami, FL 33152.

Date Revoked: October 26, 2000.

Reason: Failed to maintain a valid bond.

Sandra L. Kusumoto,
Director, Bureau of Consumer Complaints and Licensing.

[FR Doc. 00-29821 Filed 11-21-00; 8:45 am]

BILLING CODE 6730-01-P